DEPARTMENT OF AGRICULTURE

Animal and Plant Health Inspection Service

[Docket No. APHIS-2018-0095]

Addition of Scotland to the List of Regions Classified as Having Controlled Risk for Bovine Spongiform Encephalopathy

AGENCY: Animal and Plant Health Inspection Service, USDA.

ACTION: Notice.

SUMMARY: We are advising the public that we have added Scotland, a region within the United Kingdom, to our list of regions classified as having controlled risk for bovine spongiform encephalopathy (BSE) and have removed Scotland from our list of regions considered negligible risk for BSE. We are taking this action because of the confirmation of classical C-type BSE in an indigenous cow in Scotland.

DATES: The case of BSE in Scotland was confirmed on October 18, 2018.

FOR FURTHER INFORMATION CONTACT: Dr. Rebecca Gordon, Import Risk Analyst, Strategy and Policy, VS, APHIS, 920 Main Campus Drive, Suite 200, Raleigh, NC 27606; (919) 855-7741; email: Rebecca.K.Gordon@usda.gov.

SUPPLEMENTARY INFORMATION:

The regulations in 9 CFR part 92 subpart B, “Importation of Animals and Animal Products; Procedures for Requesting BSE Risk Status Classification With Regard To Bovines” (referred to below as the regulations), set forth the process by which the Animal and Plant Health Inspection Service (APHIS) classifies regions for bovine spongiform encephalopathy (BSE) risk. Section 92.5 of the regulations provides that all countries of the world are considered by APHIS to be in one of three BSE risk categories: Negligible risk, controlled risk, or undetermined risk. These risk categories are defined in § 92.1. Any region that is not classified by APHIS as presenting either negligible risk or controlled risk for BSE is considered to present an undetermined risk. The list of those regions classified by APHIS as having either negligible risk or controlled risk can be accessed on the APHIS website at https://www.aphis.usda.gov/aphis/ourfocus/animalhealth/animal-and-animal-product-import-information/animal-health-status-of-regions. The list can also be obtained by writing to APHIS at Strategy and Policy, 4700 River Road Unit 38, Riverdale, MD 20737.

Under § 92.5(c)(2) of the regulations, if APHIS at any time determines that a region no longer meets the criteria for the risk classification it had previously received, APHIS will remove the region from its list of regions so classified. If the World Organization for Animal Health (OIE) determines the region no longer meets the criteria for the risk classification it had previously received, APHIS may concur with the OIE determination or may request updated information from the region and determine whether to concur with the OIE decision.

On October 19, 2018, the veterinary authority of the United Kingdom reported that Scotland had a case of classical C-type BSE in a 5 year-old indigenous cow; the BSE case was confirmed on October 18, 2018. As a result of this finding, the OIE suspended Scotland's negligible risk status effective October 2, 2018.

Therefore, in accordance with the regulations in § 92.5(c)(2) and in concurrence with the OIE's suspension of Scotland's negligible risk status, we have removed Scotland from our list of regions considered to be negligible risk for BSE and added Scotland to the list of regions classified by APHIS as having controlled risk for BSE.

Pursuant to the Congressional Review Act (5 U.S.C. 801 et seq.), the Office of Information and Regulatory Affairs designated this rule as not a major rule, as defined by 5 U.S.C. 804(2).

Authority: 7 U.S.C. 1622 and 8301-8317; 21 U.S.C. 136 and 136a; 31 U.S.C. 9701; 7 CFR 2.22, 2.80, and 371.4.

Done in Washington, DC, this 31st day of July 2019.
Kevin Shea,
Administrator, Animal and Plant Health Inspection Service.

[FR Doc. 2019-16902 Filed 8-6-19; 8:45 am]

BILLING CODE 3410-34-P